DEPARTMENT OF ENERGY

[Docket No. EA-297]

Application To Transfer Electricity Export Authorization SESCO Enterprises LLC and SESCO Enterprises Canada, LTD

AGENCY: Office of Fossil Energy, DOE.

ACTION: Notice of application.

SUMMARY: SESCO Enterprises, LLC (SESCO) and SESCO Enterprises Canada LTD (SESCO Canada) have jointly applied to the Department of Energy (DOE) for authority to transfer electricity export authorization No. Order EA-292 from SESCO to SESCO Canada.

DATES: Comments, protests or requests to intervene must be submitted on or before November 5, 2004.

ADDRESSES: Comments, protests or requests to intervene should be addressed as follows: Office of Coal & Power Systems (FE-27), Office of Fossil Energy, U.S. Department of Energy, 1000 Independence Avenue, SW., Washington, DC 20585-0350 (fax (202) 287-5736).

FOR FURTHER INFORMATION CONTACT: Xavier Puslowski (Program Office) (202) 586-4708 or Michael Skinker (Program Attorney) (202) 586-2793.

SUPPLEMENTARY INFORMATION: Exports of electricity from the United States to a foreign country are regulated and require authorization under section 202(e) of the Federal Power Act (FPA) (16 U.S.C. 824a(e)).

On July 6, 2004, in Order No. EA-292, DOE authorized SESCO to export electric energy from the United States to Canada as a power marketer for a period of two years. Following issuance of that Order, a new entity, Sesco Canada was formed to conduct this business and, on September 7, 2004, SESCO and the new entity, SESCO Canada, jointly applied to DOE pursuant to 10 CFR 205.305 to transfer the electricity export authorization from SESCO to SESCO Canada.

SESCO Canada is a corporation formed under Delaware law with its principal place of business located at 120 Wood Avenue South, Suite 511, Iselin, NJ 08830. SESCO Canada is qualified to do business in the State of Delaware and has an application pending to qualify it to do business in Canada. SESCO Canada does not own or control any electric power generation or transmission facilities and does not have a franchised electric power service area. SESCO Canada will operate as a marketer and broker of electric power at wholesale and arrange services in related areas such as fuel supplies and transmission services. SESCO Canada will purchase the power to be exported from electric utilities and Federal power marketing agencies.

SESCO Canada proposes to arrange for the delivery of electric energy to Canada over the existing international transmission facilities owned by Basin Electric Power Cooperative, Bonneville Power Administration, Eastern Maine Electric Cooperative, International Transmission Company, Joint Owners of the Highgate Project, Long Sault, Inc., Maine Electric Power Company, Maine Public Service Company, Minnesota Power Inc., Minnkota Power Cooperative, New York Power Authority, Niagara Mohawk Power Corporation, Northern States Power, Vermont Electric Power Company and Vermont Electric Transmission Company. The construction, operation, maintenance, and connection of each of the international transmission facilities to be utilized by SESCO Canada as more fully described in the application, has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with DOE on or before the date listed above.

Comments on the SESCO Canada application to export electric energy to Canada should be clearly marked with Docket EA-297. Additional copies are to be filed directly with James Thoresen, Chief Operating Officer, SESCO Enterprises Canada Ltd, 120 Wood Avenue South, Suite 511, Iselin, NJ 08830 and Michael Schubiger, Chief Executive Officer, SESCO Enterprises, LLC, 120 Wood Avenue South, Suite 511, Iselin, NJ 08830.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.de.gov. Upon reaching the Fossil Energy Home page, select “Electricity Regulation,” and then “Pending Proceedings” from the options menus.

Issued in Washington, DC on September 30, 2004.
Anthony J. Como,
Deputy Director, Electric Power Regulation, Office of Fossil Energy.

[FR Doc. 04-22425 10-5-04; 8:45 am]

BILLING CODE 6450-01-P